NATIONAL ARCHIVES AND RECORDS ADMINISTRATION

National Declassification Center (NDC)

AGENCY: National Archives and Records Administration.

ACTION: Notice of meeting.

SUMMARY: Pursuant to Section 3.7(d) of Executive Order 13526, Classified National Security Information, announcement is made for the National Declassification Center (NDC) Prioritization Plan Public Meeting. The meeting is being held to solicit public input regarding declassification priorities as identified by the Draft Prioritization Plan developed by The National Declassification Center. This draft plan is available for review at http://www.archives.gov/declassification/prioritization-plan.html.

This meeting will be open to the public. To ensure that all interested parties have the opportunity to comment, individual remarks may be limited to 10 minutes. Due to access procedure requirements, the name and telephone number of individuals planning to attend must be submitted to the National Declassification Center. Information may be submitted via e-mail, ndc@nara.gov or via phone 301-837-0587. NDC will provide additional instructions for gaining access to the location of the meeting.

DATES: The meeting will be held on June 23, 2010 from 2 p.m.-4 p.m.

ADDRESSES: National Archives and Records Administration, 700 Pennsylvania Avenue, NW., McGowan Theater, Washington, DC 20408.

FOR FURTHER INFORMATION CONTACT: Don McIlwain, Supervisory Archivist, National Declassification Center, National Archives at College Park, 8601 Adelphi Road, College Park, MD 20740; 301-837-0587.

Dated: June 1, 2010.
David S. Ferriero,
Archivist of the United States.

[FR Doc. 2010-13580 Filed 6-4-10; 8:45 am]

BILLING CODE 7515-01-P